DEPARTMENT OF COMMERCE

Foreign-Trade Zones Board

[Order No. 1936]

Reorganization/Expansion of Foreign-Trade Zone 235 Under Alternative Site Framework, Lakewood, New Jersey

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Township of Lakewood, grantee of Foreign-Trade Zone 235, submitted an application to the Board (FTZ Docket B-96-2013, docketed November 7, 2013) for authority to reorganize and expand under the ASF with a service area of the Counties of Ocean, Middlesex, Monmouth, Union and Burlington, within and adjacent to the Philadelphia Customs and Border Protection port of entry, FTZ 235's existing Sites 1 and 2 would be categorized as magnet sites, and the grantee proposes two initial usage-driven sites (Sites 7 and 8);

Whereas, notice inviting public comment was given in the Federal Register (78 FR 66813-68814, 11-15-2013) and the application has been processed pursuant to the FTZ Act and the Board's regulations; and,

Whereas, the Board adopts the findings and recommendation of the examiner's report, and finds that the requirements of the FTZ Act and the Board's regulations are satisfied;

Now, therefore, the Board hereby orders:

The application to reorganize and expand FTZ 235 under the ASF is approved, subject to the FTZ Act and the Board's regulations, including Section 400.13, to the Board's standard 2,000-acre activation limit for the zone, to a five-year ASF sunset provision for magnet sites that would terminate authority for Site 2 if not activated by May 31, 2019, and to a three-year ASF sunset provision for usage-driven sites that would terminate authority for Sites 7 and 8 if no foreign-status merchandise is admitted for a bona fide customs purpose by May 31, 2017.

Signed at Washington, DC, this 9th day of May 2014.
Paul Piquado,
Assistant Secretary of Commerce for Enforcement and Compliance, Alternate Chairman, Foreign-Trade Zones Board.
Attest:__________
Andrew McGilvray,
Executive Secretary.

[FR Doc. 2014-11891 Filed 5-21-14; 8:45 am]

BILLING CODE 3510-DS-P